DEPARTMENT OF COMMERCE

Foreign-Trade Zones Board

[B-24-2018]

Foreign-Trade Zone (FTZ) 293—Limon, Colorado; Authorization of Production Activity Laser Galicia America LLC (Bending and Assembly of Trafo Wall); Aurora, Colorado

On April 6, 2018, the Town of Limon, Colorado, grantee of FTZ 293, submitted a notification of proposed production activity to the FTZ Board on behalf of Laser Galicia America LLC, within FTZ 293, in Aurora, Colorado.

The notification was processed in accordance with the regulations of the FTZ Board (15 CFR part 400), including notice in the Federal Register inviting public comment (83 FR 17143, April 18, 2018). On August 6, 2018, the applicant was notified of the FTZ Board's decision that no further review of the activity is warranted at this time. The production activity described in the notification was authorized, subject to the FTZ Act and the FTZ Board's regulations, including Section 400.14.

Dated: August 8, 2018.
Elizabeth Whiteman,
Acting Executive Secretary.

[FR Doc. 2018-17419 Filed 8-13-18; 8:45 am]

BILLING CODE 3510-DS-P